FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entitiies
Transactions Granted Early Termination—04/22/2005
20050831 | UBS AG | NAU Holding Company, LLC | NAU Holding Company, LLC.
20050839 | Carmike Cinemas, Inc. | Flora Beth Kerasotes | George G. Kerasotes Corporation.
20050840 | Apollo Investment Fund IV, L.P. | iPCS, Inc. | iPCS, Inc.
20050844 | Odyssey Investment Partners Fund III, LP | Neff Corp. | Neff Corp.
20050845 | DST Systems, Inc. | Computer Sciences Corporation | CSC Healthcare, Inc.
20050850 | American Capital Strategies, Ltd. | Lawrence Richenstein | Unwired Technology LLC.
20050853 | Leucadia National Corporation | Larry and Marianne Williams | Alumni Forest Products, Inc., Idaho Cedar Sales, Inc., Idaho Timber Corporation, Idaho Timber Corporation of Albuquerque, Inc., Idaho Timber Corporation of Boise, Inc., Idaho Timber Corporation of Carthage, Inc., Idaho Timber Corporation of Idaho, Inc., Idaho Timber Corporation of Kansas, Inc., Idaho Timber Corporation of Montana, Inc., Idaho Timber Corporation of Mountain Home, Inc., Idaho Timber Corporation of North Carolina, Inc., Idaho Timber Corporation of Texas, Inc.
20050855 | Cantor Fitzgerald, L.P. | Maxcor Financial Group Inc. | Maxcor Financial Group Inc.
20050856 | FS Equity Partners V, LP | Gryphon Dental Partners, L.P. | Bright Now Dental, Inc.
20050860 | MBNA Corporation | KKR 1996 Fund L.P. | Nexstar Financial Corporation.
Transactions Granted Early Termination—04/25/2005
20050778 | IVAX Corporation | Green Equity Investors III, L.P. | PSI Holdings, Inc.
20050852 | Peter C. Georgiopoulos | General Maritime Corporation | General Maritime Corporation.
20050858 | August Capital III, L.P. | Seagate Technology | Seagate Technology.
20050859 | Silver Lake Partners Cayman, L.P. | Seagate Technology | Seagate Technology.
Transactions Granted Early Termination—04/26/2005
20050825 | Olympus Corporation | R/D Tech Inc. | R/D Tech Inc.
Transactions Granted Early Termination—04/27/2005
20050774 | Hanson PLC | HeidelbergCement AG | Sherman Industries, Inc.
20050861 | Oil States International, Inc. | Mr. and Mrs. L. Murray Dallas | Stinger Wellhead Protection, Incorporated.
Transactions Granted Early Termination—04/28/2005
20050802 | Round Table Healthcare Management, L.L.C. | Clinical Innovation Associates, Inc. | Clinical Innovation Associates, Inc.
20050843 | Wicks Communications & Media Partners, L.P. | Jobson Publishing L.L.C. | Jobson Publishing L.L.C.
Transactions Granted Early Termination—04/29/2005
20050851 | Trapax Payments Limited | Lloyd M. Dorfman | Travelex Holdings Limited.
20050862 | GfK Nurnberg e.V. | United Business Media plc | Barterstore Limited, NOPWorld, Inc.
20050867 | WLR Recovery Fund, L.P. | ICG Holdco, Inc. | ICG Holdco, Inc.
20050868 | WLR Recovery Fund II, L.P. | ICG Holdco, Inc. | ICG Holdco, Inc.
20050869 | Hicks, Muse, Tate & Furst Equity Fund V, L.P. | Mason Wells Leveraged Buyout Fund I, Limited Partnership | Sturm Foods, Inc.
20050872 | GSCP Emax Acquisition, LLC | Citigroup Inc. | Euramax International, Inc.
20050874 | General Atlantic Partners 79, L.P. | Joshua Peterson | Adteractive, Inc.
20050875 | Cisco Systems, Inc. | Topspin Communications, Inc. | Topspin Communications, Inc.
20050876 | TPG Partners III, L.P. | Seagate Technology | Seagate Technology.
20050880 | Summit Ventures VI-A, L.P. | Thomas John McDowell and Victoria Knight McDowell | Airborne, Inc.
20050881 | Brisbane SA | Dometic International AB | Dometic Corporation.
20050882 | Electronics For Imaging, Inc. | American Securities Partners II, L.P. | VUTEk Inc.
20050883 | Melrose PLC | Dynacast International Limited | Dynacast International Limited.
20050884 | Melrose PLC | Mozart Jersey Holdings No 1 Limited | McKechnie Aerospace Holdings Ltd., McKechnie EP Holdings Ltd., McKechnie Holdings (UK) Ltd.
20050888 | Stephen J. Luczo | Seagate Technology | Seagate Technology.
20050892 | FdG Capital Partners II, L.P. | The Hercules Tire & Rubber Company | The Hercules Tire & Rubber Company.
Transactions Granted Early Termination—05/02/2005
20050796 | Johnson & Johnson | Closure Medical Corporation | Closure Medical Corporation.
Transactions Granted Early Termination—05/05/2005
20050303 | Wm. Wrigley Jr. Company | Altria Group Inc. | Altria Group Inc.
20050865 | Knight Trading Group, Inc. | Mark D. Gulis | Direct Trading Institutional, LLC.
20050866 | Knight Trading Group, Inc. | Allan P. Peterson | Direct Trading Institutional, LLC.
20050877 | DLJ Merchant Banking Partners III, L.P. | Sterling Capital Partners, L.P. | PCDI Acquisition Corp.
Transactions Granted Early Termination—05/06/2005
20050770 | Cisco Systems, Inc. | Jan Fandrianto and Selfia Halim | Sipura Technology, Inc.
20050841 | Laboratory Corporation of American Holdings | Esorterix, Inc. | Esorterix, Inc.
20050897 | FPL Group, Inc. | Gexa Corp. | Gexa Corp.
20050901 | Alberto-Culver Company | Steven J. and Angelina C. Redding | Nexxus Products Company.
20050904 | Johnson & Johnson | Peninsula Pharmaceuticals, Inc. | Peninsula Pharmaceuticals, Inc.
20050906 | Verizon Communications Inc. | Leap Wireless international, Inc. | Cricket Alabama Property Company, Cricket Arkansas Property Company, Cricket Communications, Inc., Cricket Licensee II, Inc., Cricket Licensee I, Inc., Cricket Licensee (Reauction), Inc., Cricket Michigan Property Company, Cricket Mississippi Property Company, Cricket Wisconsin Property Company.
20050908 | Spectrum Equity Partners IV, L.P. | VS&A Communications Partners II, L.P. | Canon Communications, LLC.
20050912 | GGC Investment Fund II, L.P. | Plant Equipment, Inc. | Plant Equipment, Inc.
20050913 | Bank of Montreal | Jill Wing Heck | Women's Marketing, Inc.
20050917 | Autonomy Corporation plc | Greenwich Street Capital Partners II, L.P. | etalk Corporation.
20050918 | Accentrue Ltd. | Cap Gemini S.A. | Capgemini U.S. LLC.
20050920 | Gryphon Partners II, L.P. | Joshua Schott | Update, Inc.

FOR FURTHER INFORMATION CONTACT: Sandra M. Peay, Contact Representative or Renee Hallman, Case Managaement Assistant. Federal Trade Commission; Premerger Notification Office, Bureau of Competition, Room H-303, Washington, DC 20580. (202) 326-3100.

By Direction of the Commission.
Donald S. Clark,
Secretary.

[FR Doc. 05-10027 Filed 5-18-05; 8:45 am]

BILLING CODE 6750-01-M